DEPARTMENT OF COMMERCE

Bureau of Industry and Security

Action Affecting Export Privileges; Ralph Michel

Ralph Michel, 41 Rosewood Drive, Easton, CT 06612, U.S., Respondent; Order

On November 12, 2003, having approved the terms of a settlement agreement between the Bureau of Industry and Security, United States Department of Commerce (“BIS”), and Respondent Ralph Michel (“Michel”), then-Assistant Secretary for Export Enforcement Julie L. Myers issued an Order (68 FR 65032, Nov. 18, 2003) resolving an administrative proceeding against Michel pursuant to Section 13(c) of the Export Administration Act of 1979, as amended (“Act”),¹ and the Export Administration Regulations (“Regulations”),² based on allegations in a proposed charging letter that Michel had committed six violations of the Regulations.

¹ 50 U.S.C. app. 2401-2420 (2000). Since August 21, 2001, the Act has been in lapse and the President, through Executive Order 13222 of August 17, 2001 (3 CFR, 2001 Comp. 783 (2002)), which has been extended by successive Presidential Notices, the most recent being that of July 23, 2008 (73 FR 43603 (July 25, 2008)), has continued the Regulations in effect under the International Emergency Economic Powers Act (50 U.S.C. 1701-1706 (2000)) (“IEEPA”).

² The Regulations are currently codified in the Code of Federal Regulations at 15 CFR parts 730-774 (2008). The current version of the Regulations govern the procedural aspects of this case. The charged violations occurred in 1997. The Regulations governing the charged violations are found in the 1997 version of the Code of Federal Regulations (15 CFR parts 730-774 (1997)).

Among other things, the November 12, 2003 Order provided a non-standard denial of export privileges that prohibited Michel, for a period of five years from the date of that Order, from participating in any way in any transaction involving the export from the United States to Pakistan of any item subject to the Regulations or in any other activity subject to the Regulations that involves Pakistan.

Whereas, the November 12, 2003 Order lists Michel as ``Ralph Michel, Vice President, Omega Engineering, Inc., One Omega Drive, Stamford, Connecticut 06907”;

Whereas, the Office of Export Enforcement, Bureau of Industry and Security, U.S. Department of Commerce (``OEE''), has confirmed that this address is no longer correct, and that Michel's current address is ``41 Rosewood Dr., Easton, CT 06612''; and

Whereas, as a result of the information OEE obtained regarding Michel's current address, OEE has requested that an order be issued amending the November 12, 2003 Order to reflect that new address for Michel;

Accordingly, it is hereby ordered that the November 12, 2003 Order denying Michel for five years from participating in any way in any transaction involving the export from the United States to Pakistan of any item subject to the Regulations or in any other activity subject to the Regulations that involves Pakistan is amended by deleting the address ``Vice President, Omega Engineering, Inc., One Omega Drive, Stamford, Connecticut 06907”, and by adding the address ``41 Rosewood Dr., Easton, CT 06612”. In all other aspects, the November 12, 2003 Order remains in full force and effect.

This Order shall be effective immediately upon publication in the Federal Register.

Entered this 4th day of September 2008.
Darryl W. Jackson,
Assistant Secretary of Commerce for Export Enforcement.

[FR Doc. E8-21229 Filed 9-10-08; 8:45 am]

BILLING CODE 3510-DT-P